FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at http://www.ffiec.gov/nic/.

Unless otherwise noted, comments regarding each of these applications must be received at the Reserve Bank indicated or the offices of the Board of Governors not later than August 15, 2003.

A. Federal Reserve Bank of Richmond (A. Linwood Gill, III, Vice President) 701 East Byrd Street, Richmond, Virginia 23261-4528:

1. JCO Ventures, LLC, Union, South Carolina; HAO Management Company, LLC, Union, South Carolina; FOJ Management Company, LLC, Union, South Carolina; Frances W. Arthur Irrevocable Trust No. 2 for the benefit of Frances Oxner Jorgenson, Union, South Carolina; JCO Partners, L.P., Union, South Carolina; JCO Partners II, L.P., Union, South Carolina; HAO Partners, L.P., Union, South Carolina; HAO Partners, II, L.P., Union, South Carolina; FOJ Partners, L.P., Union, South Carolina; and FOJ Partners II, L.P., Union, South Carolina; to acquire 100 percent of the voting shares of Arthur Financial Corporation, Union, South Carolina, and thereby indirectly acquire voting shares of Arthur State Bank, Union, South Carolina.

2. FOJ Partners LP; FOJ Partners II, LP; FOJ Management Company LLC; JCO Partners, LP; JCO Partners II, LP; JCO Ventures, LLC; HAO Partners, LP; HAO Partners II, LP; HAO Management Company LLC; and Frances W. Arthur Irrevocable Trust No. 2 for the benefit of Frances Oxner Jorgenson, all of Union, South Carolina; to acquire 61.6 percent of the voting shares of Arthur Financial Corporation, Union, South Carolina, and thereby acquire voting shares of Arthur State Bank, Union, South Carolina.

In connection with this application Arthur Financial Corporation, Union, South Carolina, has applied to become a bank holding company by acquiring 100 percent of the voting shares of Arthur State Bank, Union, South Carolina.

3. United Bankshares, Inc., Charleston, West Virginia, and George Mason Bankshares, Inc., Fairfax, Virginia; to acquire 100 percent of the voting shares of, and merge with, Sequoia Bancshares, Inc., Bethesda, Maryland, and thereby indirectly acquire Sequoiabank, Bethesda, Maryland.

B. Federal Reserve Bank of Chicago (Phillip Jackson, Applications Officer) 230 South LaSalle Street, Chicago, Illinois 60690-1414:

1. Oswego Community Bank Employee Stock Ownership Plan, Oswego, Illinois; to acquire an additional 18.04 percent, for a total of 51 percent, of the voting shares of Oswego Bancshares, Inc., Oswego, Illinois, and thereby indirectly acquire voting shares of Oswego Community Bank, Oswego, Illinois.

2. TeamCo, Inc. Oak Lawn, Illinois; to become a bank holding company by acquiring 100 percent of the voting shares of Oak Lawn Bank, Oak Lawn, Illinois.

Board of Governors of the Federal Reserve System, July 16, 2003.
Robert deV. Frierson,
Deputy Secretary of the Board.

[FR Doc. 03-18675 Filed 7-22-03; 8:45 am]

BILLING CODE 6210-01-S